ENVIRONMENTAL PROTECTION AGENCY

[FRL-11362-01-R6]

Clean Air Act Operating Permit Program; Petition for Objection to State Operating Permit for XTO Energy Inc., Wildcat Compressor Station, Lea County, New Mexico

AGENCY: Environmental Protection Agency (EPA).

ACTION: Notice of final Order on Petition for objection to Clean Air Act title V operating permit.

SUMMARY: The Environmental Protection Agency (EPA) Administrator signed an Order dated August 7, 2023, granting in part and denying in part a Petition from the WildEarth Guardians dated March 1, 2023. The Petition requested that the EPA object to the Clean Air Act (CAA) title V operating permit issued by the New Mexico Environment Department (NMED) to XTO Energy Inc., Wildcat Compressor Station, located in Lea County, New Mexico.

ADDRESSES: The EPA requests that you contact the individual listed in the FOR FURTHER INFORMATION CONTACT section to view copies of the final Order, the Petition, and other supporting information. Please call or email the contact listed below if you need alternative access to the final Order and Petition, which are available electronically at: https://www.epa.gov/title-v-operating-permits/title-v-petition-database.

FOR FURTHER INFORMATION CONTACT: Elizabeth Layton, EPA Region 6 Office, Air Permits Section, (214) 665-2165, layton.elizabeth@epa.gov.

SUPPLEMENTARY INFORMATION: The CAA affords the EPA a 45-day period to review and object to, as appropriate, operating permits proposed by state permitting authorities under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issue arose after this period.

The Petitioner claims that the Proposed Permit fails to ensure the facility operates in compliance with the New Mexico State Implementation Plan (SIP) by lacking a reasoned explanation, basis, or analysis demonstrating how the Proposed Permit will ensure the facility's operation will not cause or contribute to an exceedance in the National Ambient Air Quality Standard (NAAQS) for ozone, fails to include emission limitations and standards necessary to assure compliance with applicable requirements, and fails to include sufficient periodic monitoring and is unenforceable as a practical matter.

On August 7, 2023, the EPA Administrator issued an Order granting in part and denying in part the Petition. The Order explains the basis for the EPA's decision.

Sections 307(b) and 505(b)(2) of the CAA provide that a petitioner may request judicial review of those portions of an order that deny issues in a petition. Any petition for review shall file in the United States Court of Appeals for the appropriate circuit no later than October 30, 2023.

Dated: August 24, 2023.
David Garcia,
Director, Air and Radiation Division, Region 6.

[FR Doc. 2023-18726 Filed 8-29-23; 8:45 am]

BILLING CODE 6560-50-P